DEPARTMENT OF THE INTERIOR

Bureau of Reclamation

Pick-Sloan Missouri Basin Program, Eastern and Western Division Proposed Project Use Power Rate

AGENCY: Bureau of Reclamation, Interior.

ACTION: Notice of Proposed Pick-Sloan Missouri Basin Program, Eastern and Western Division, Project Use Power Rate Adjustment.

SUMMARY: The Bureau of Reclamation (Reclamation) is proposing a rate adjustment (proposed rate) for Project Use Power for the Pick-Sloan Missouri Basin Program (P-SMBP), Eastern and Western Division. The proposed rate for Project Use Power is to recover all annual operating, maintenance, and replacement expenses. The analysis of the proposed Project Use Rate is included in a booklet available upon request. The proposed rate for Project Use Power will become effective April 1, 2001.

This notice provides the opportunity for public comment. After review of comments received, Reclamation will consider them, revise the rates if necessary, and recommend a proposed rate for approval to the Commissioner of the Bureau of Reclamation.

DATES: The comment period will begin with publication of this notice in the Federal Register. To be assured consideration, please submit comments on or before January 17, 2001.

ADDRESSES: Written comments should be sent to Jim L. Wedeward, GP-2020, Power O&M Administrator, Bureau of Reclamation, P.O. Box 36900, Billings MT 59107-6900.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

All booklets, studies, comments, letters, memoranda, and other documents made or kept by Reclamation for the purpose of developing the proposed rate for Project Use Power will be made available for inspection and copying at the Great Plains Regional Office, located at 316 North 26th Street, Billings, Montana 59107-6900.

FOR FURTHER INFORMATION CONTACT: Jim L. Wedeward (406) 247-7705, Internet: jwedeward@gp.usbr.gov.

SUPPLEMENTARY INFORMATION: Power rates for the P-SMBP are established pursuant to the Reclamation Act of 1902 (43 U.S.C. 371 et seq.), as amended and supplemented by subsequent enactments, particularly section 9(c) of the Reclamation Project Act of 1939 (43 U.S.C. 485h (c)) and the Flood Control Act of 1944 (58 Stat. 887).

Beginning April 1, 2001, Reclamation proposes to:

(a) Increase the energy charge from 2.5 mills/kWh to 10.76 mills/kWh

(b) the monthly demand charge will remain at zero.

The Project Use Power rate will be reviewed each time Western Area Power Administration (Western) adjusts the P-SMBP Firm power rate. Western will conduct the necessary studies and use the methodology identified in this rate proposal to determine a new rate.

The existing rate schedule MRB-P10 placed into effect on November 1, 1986, will be replaced by rate schedule MRB-P11.

In compliance with the National Environmental Policy Act of 1969 (NEPA), 42 U.S.C. 4321 et seq.; Council on Environmental Quality Regulations (40 CFR Parts 1500-1508); and Reclamation's Regulations (10 CFR Part 1021), Reclamation has determined that this action is categorically excluded from the preparation of an Environmental Assessment or Environmental Impact Statement.

Dated: December 12, 2000.
Gerald W. Kelso,
Assistant Regional Director, Great Plains Region, Bureau of Reclamation.

[FR Doc. 00-32107 Filed 12-15-00; 8:45 am]

BILLING CODE 4310-MN-P